DEPARTMENT OF HEALTH AND HUMAN SERVICES

Centers for Disease Control and Prevention

Update on the Findings of the Hanford Thyroid Disease Study Final Report

The National Center for Environmental Health (NCEH) of the Centers for Disease Control and Prevention (CDC) and Fred Hutchinson Cancer Research Center (FHCRC) announces the following public meeting.

Name: Update on the Findings of the Hanford Thyroid Disease Study Final Report.

Time and Date: 6 p.m.-8:30 p.m., June 21, 2002.

Place: Red Lion Inn-The Hanford House, 802 Washington Way, Richland, Washington 99352, telephone 509-946-7611.

Status: Open to the public, limited only by the space available. The meeting room accommodates approximately 200 people.

Background: In 1986, Freedom of Information Act requests led the Department of Energy to make public thousands of pages of documentation indicating that large quantities of radioactive materials were released into the atmosphere from the Hanford Nuclear Site. The radioactivity was a byproduct of nuclear weapons production from December 1944 through 1957. Most of the radioactivity was released in the form of Iodine-131, which concentrates in the thyroid glands of those who eat food contaminated by it. The amount of Iodine-131 released during this period was more than half a million curies, prompting concern regarding thyroid health effects. The government convened a special Hanford Health Effects Review Panel to review the documents and recommend steps to evaluate possible health consequences among those who live near the Hanford Nuclear Site.

Two studies were undertaken as a result of these recommendations. The first was the Hanford Environmental Dose Reconstruction Project which estimated potential radiation doses to the thyroid among persons exposed to Hanford Iodine-131 releases. The second was the Hanford Thyroid Disease Study. This study was designed to determine whether the exposures from Hanford resulted in an increased risk of thyroid disease in a randomly selected study population. In late 1989, a contract to perform this study was awarded to the FHCRC.

Purpose: The purpose of the study was to determine if there was an increased risk for thyroid disease among a randomly selected study population exposed to atmospheric releases of radioactive Iodine-131 from the Hanford Nuclear Site in eastern Washington State during the 1940s and 1950s. The study, mandated by Congress, was conducted by a team of scientists at the FHCRC under contract from the CDC.

Matters to Be Discussed: Agenda items include a presentation from NCEH regarding the findings of the Hanford Thyroid Disease Study Final Report. There will be time for public input, questions, poster sessions, and comments.

All agenda items are subject to change as priorities dictate.

For Further Information Contact: General information may be obtained from Ms. Maire Holcombe, Health Communicator, Radiation Studies Branch (RSB), Division of Environmental Hazards and Health Effects (DEHHE), NCEH, CDC, 1600 Clifton Road (E-39), Atlanta, Georgia 30333, telephone 404-498-1809. Technical information may be obtained from Dr. Paul Garbe, Associate Director for Science, DEHHE, NCEH, CDC, 1600 Clifton Road (E-39), Atlanta, Georgia 30333 telephone 404-498-1305.

The Director, Management Analysis and Services Office, has been delegated the authority to sign Federal Register notices pertaining to announcements of meetings and other committee management activities for both CDC and ATSDR.

Dated: June 3, 2002.
Joseph Salter,
Acting Director, Management Analysis and Services Office, Centers for Disease Control and Prevention.

[FR Doc. 02-14322 Filed 6-6-02; 8:45 am]

BILLING CODE 4163-18-P